DEPARTMENT OF TRANSPORTATION

Federal Aviation Administration

14 CFR Part 73

[Docket No. FAA-2014-0760; Airspace Docket No. 14-ANE-8]

RIN 2120-AA66

Revocation of Restricted Areas R-4105A and R-4105B; No Man's Land Island, MA

AGENCY: Federal Aviation Administration (FAA), DOT.

ACTION: Final rule.

SUMMARY: This action removes restricted areas R-4105A and R-4105B, No Man's Land Island, MA. The Air National Guard and U.S. Air Force informed the FAA that they no longer have a requirement for these areas. Management of the land has been transferred to the U.S. Fish and Wildlife Service.

DATES: Effective date: 0901 UTC, November 17, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

No Man's Land Island, located approximately 3 NM south of Martha's Vineyard, MA, has been used by the military as a gunnery and bombing range dating back to 1943. It was used for this purpose until 1996. In 1998, management of the Island was transferred by the military to the U.S. Fish and Wildlife Service and the Island was designated a National Wildlife Refuge.

Since restricted areas R-4105A and R-4105B, that overlie the Island, are no longer utilized, the Air National Guard reviewed its future plans and requirements and determined that no requirement remains for the airspace.

The Rule

This action amends Title 14 Code of Federal Regulations (14 CFR) part 73 by removing restricted areas R-4105A and R-4105B, No Man's Land Island, MA. The Air National Guard and the U.S. Air Force notified the FAA that they no longer require these restricted areas and requested that the airspace be returned to the National Airspace System.

Because this action removes restricted airspace that is no longer needed for military purposes and returns the airspace to the National Airspace System, I find that notice and public procedure under 5 U.S.C. 553(b) is unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it returns restricted airspace that is no longer needed by the military to the National Airspace System.

Environmental Review

The FAA has determined that this action qualifies for categorical exclusion under the National Environmental Policy Act in accordance with FAA Order 1050.1E, Environmental Impacts: Policies and Procedures, paragraph 311c. This action returns restricted airspace to the National Airspace System. It is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.41 [Amended]

2. Section 73.41 is amended as follows:

* * * * *

1. R-4105A No Man's Land Island, MA [Removed]

2. R-4105B No Man's Land Island, MA [Removed]

Issued in Washington, DC, on October 8, 2014.
Gary A. Norek,
Manager, Airspace Policy and Regulations Group.

[FR Doc. 2014-24619 Filed 10-15-14; 8:45 am]

BILLING CODE 4910-13-P